DEPARTMENT OF COMMERCE

INTERNATIONAL TRADE ADMINISTRATION

(A-570-848)

Freshwater Crawfish Tail Meat From the People's Republic of China: Initiation of Antidumping Duty New Shipper Reviews

AGENCY: Import Administration, International Trade Administration, Department of Commerce.

SUMMARY: The U.S. Department of Commerce (“the Department”) has received timely requests to conduct new shipper reviews of the antidumping duty order on freshwater crawfish tail meat from the People's Republic of China (“PRC”). In accordance with 19 CFR 351.214(d), we are initiating new shipper reviews for Anhui Tongxin Aquatic Product & Food Co., Ltd. (“Anhui Tongxin”), Huoshan New Three-Gold Food Trade Co. Ltd. (“Huoshan NTGF”), Jingdezhen Garay Foods Co., Ltd. (“Jingdezhen Garay”), and Shanghai Now Again International Trading Co., Ltd. (“Shanghai Now Again”).

EFFECTIVE DATE: October 30, 2006.

FOR FURTHER INFORMATION CONTACT: Michael Quigley or Erin Begnal, Office 9, Import Administration, International Trade Administration, U.S. Department of Commerce, 14th Street and Constitution Avenue, NW, Washington, DC 20230; telephone: (202) 482-4047 or (202) 482-1442, respectively.

SUPPLEMENTARY INFORMATION:

Background

The Department received timely requests from Anhui Tongxin (September 27, 2006), Huoshan NTGF (August 30, 2006), Jingdezhen Garay (September 20, 2006), and Shanghai Now Again (September 20, 2006), pursuant to section 751(a)(2)(B) of the Tariff Act of 1930, as amended (“the Act”), and 19 CFR 351.214(c), for new shipper reviews of the antidumping duty order on freshwater crawfish tail meat from the PRC. See Notice of Amendment to Final Determination of Sales at Less than Fair Value and Antidumping Duty Order: Freshwater Crawfish Tail Meat from the People's Republic of China, 62 FR 48218 (September 15, 1997).

Pursuant to 19 CFR 351.214(b)(2)(i) and 19 CFR 351.214(b)(2)(iii)(A), in their requests for review, Anhui Tongxin, Huoshan NTGF, Jingdezhen Garay, and Shanghai Now Again certified that they did not export the subject merchandise to the United States during the period of investigation (“POI”) and that since the initiation of the investigation they have never been affiliated with any company which exported subject merchandise to the United States during the POI. Pursuant to 19 CFR 351.214(b)(2)(iii)(B), Huoshan NTGF, Jingdezhen Garay, and Shanghai Now Again further certified that their export activities are not controlled by the central government of the PRC.

Pursuant to 19 CFR 351.214(b)(2)(ii)(B), Rudong Smooth Food Co., Ltd. (“Rudong Smooth”), the producer of the subject merchandise for Shanghai Now Again during the period of review (“POR”), certified that it did not export or produce for export to the United States during the POI, and has never been affiliated with any exporter or producer who exported the subject merchandise to the United States during the POI. Rudong Smooth further certified that its export activities are not controlled by the central government of the PRC.

In accordance with 19 CFR 351.214(b)(2)(iv), Anhui Tongxin, Huoshan NTGF, Jingdezhen Garay, and Shanghai Now Again, respectively, submitted documentation establishing the following: (1) the date on which they first shipped subject merchandise for export to the United States and the date on which the subject merchandise was first entered, or withdrawn from warehouse, for consumption; (2) the volume of their first shipment; and (3) the date of their first sale to an unaffiliated customer in the United States.

In addition, the Department conducted customs database queries to confirm that Anhui Tongxin's, Huoshan NTGF's, Jingdezhen Garay's, and Shanghai Now Again's shipments of subject merchandise had entered the United States for consumption and had been suspended for antidumping duties.

Initiation of Reviews

In accordance with section 751(a)(2)(B) of the Act, and 19 CFR 351.214(d)(1), and based on information on the record, we are initiating new shipper reviews for Anhui Tongxin, Huoshan NTGF, Jingdezhen Garay, and Shanghai Now Again. See Memoranda to the File through James C. Doyle, New Shipper Initiation Checklists, (October 23, 2006). We intend to issue the preliminary results of this review not later than 180 days after the date on which this review was initiated, and the final results of this review within 90 days after the date on which the preliminary results were issued.

Pursuant to 19 CFR 351.214(g)(1)(i)(A), the POR for a new shipper review, initiated in the month immediately following the annual anniversary month, will be the one year period immediately preceding the annual anniversary month. Therefore, the POR for the new shipper reviews of Anhui Tongxin, Huoshan NTGF, Jingdezhen Garay, and Shanghai Now Again will be September 1, 2005, through August 31, 2006.

It is the Department's usual practice in cases involving non-market economies to require that a company seeking to establish eligibility for an antidumping duty rate separate from the country-wide rate provide evidence of de jure and de facto absence of government control over the company's export activities. Accordingly, we will issue questionnaires to Anhui Tongxin, Huoshan NTGF, Jingdezhen Garay, and Shanghai Now Again, including a separate rates section. The reviews will proceed if the responses provide sufficient indication that Anhui Tongxin, Huoshan NTGF, Jingdezhen Garay, and Shanghai Now Again are not subject to either de jure or de facto government control with respect to their exports of freshwater crawfish tail meat. However, if the exporter does not demonstrate the company's eligibility for a separate rate, then the company will be deemed not separate from the PRC-wide entity, which exported during the POI. An exporter unable to demonstrate the company's eligibility for a separate rate would hence not meet the requirements of section 751(a)(2)(B)(i)(I) of the Act and its new shipper review will be rescinded. See, e.g., Notice of Preliminary Results of Antidumping Duty New Shipper Review and Rescission of New Shipper Reviews: Freshwater Crawfish Tail Meat from the People's Republic of China, 69 FR 53669 (September 2, 2004) and Brake Rotors From the People's Republic of China: Rescission of Second New Shipper Review and Final Results and Partial Rescission of First Antidumping Duty Administrative Review, 64 FR 61581 (November 12, 1999).

Interested parties that need access to proprietary information in these new shipper reviews should submit applications for disclosure under administrative protective order in accordance with 19 CFR 351.305 and 351.306.

This initiation and notice are in accordance with section 751(a) of the Act (19 U.S.C. 1675(a)) and 19 CFR 351.214.

Dated: October 23, 2006.
Stephen J. Claeys,
Deputy Assistant Secretary for Import Administration.

[FR Doc. E6-18177 Filed 10-27-06; 8:45 am]

BILLING CODE 3510-DS-S